DEPARTMENT OF COMMERCE

National Oceanic and Atmospheric Administration

RIN 0648-XC431

Endangered and Threatened Species; Recovery Plan for the North Pacific Right Whale

AGENCY: National Marine Fisheries Service, National Oceanic and Atmospheric Administration, Commerce.

ACTION: Notice of availability; request for comments.

SUMMARY: The National Marine Fisheries Service (NMFS) announces the availability for public review of the draft Recovery Plan (Plan) for the North Pacific right whale (Eubalaena japonica). NMFS is soliciting review and comment from the public and all interested parties on the Plan, and will consider all substantive comments received during the review period before submitting the Plan for final approval.

DATES: Comments on the draft Plan must be received by close of business on March 11, 2013.

ADDRESSES: You may submit comments, identified by 0648- XC431, by any of the following methods:

Electronic Submissions: Submit all electronic public comments via the Federal eRulemaking Portal http://www.regulations.gov.

Mail: Angela Somma, National Marine Fisheries Service, Office of Protected Resources, Endangered Species Division, 1325 East West Highway, Silver Spring, MD 20910, Attn: North Pacific Right Whale Recovery Plan.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge (301-427-8437), email Shannon.Bettridge@noaa.gov or Larissa Plants (301-427-8471), email Larissa.Plants@noaa.gov.

SUPPLEMENTARY INFORMATION:

Background

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

The Northern right whale (Eubalaena glacialis) has been listed as “endangered” under the Endangered Species Act (ESA) since its passage in 1973. In 2008, NMFS determined that the Northern right whale should be listed as two separate species, the North Pacific right whale and the North Atlantic right whale. North Pacific right whales historically had a wide distribution in the Pacific Ocean, but the population was dramatically reduced by extensive commercial whaling, now prohibited by the International Whaling Commission. It is estimated that roughly 1,000 individuals remain. Of the commercially exploited “great whales,” the North Pacific right whale is one of the least well studied, and the current status of the North Pacific right whale population is poorly understood. Currently, the population structure of North Pacific right whales has not been adequately defined.

Because the current status of North Pacific right whales is unknown, the primary purpose of the draft Recovery Plan is to provide a research strategy to obtain data necessary to estimate population abundance, trends, and structure and to identify factors that may be limiting North Pacific right whale recovery. Criteria for the reclassification of the North Pacific right whale are included in the draft Recovery Plan. In summary, the North Pacific right whale may be reclassified from endangered to threatened when all of the following have been met: (1) Given current and projected threats and environmental conditions, the North Pacific right whale population satisfies the risk analysis standard for threatened status (has no more than a 1 percent chance of extinction in 100 years) and the global population has at least 1,500 mature, reproductive individuals (consisting of at least 250 mature females and at least 250 mature males in each ocean basin). Mature is defined as the number of individuals known, estimated, or inferred to be capable of reproduction. Any factors or circumstances that are thought to substantially contribute to a real risk of extinction that cannot be incorporated into a Population Viability Analysis will be carefully considered before downlisting takes place; and (2) none of the known threats to North Pacific right whales are known to limit the continued growth of populations. Specifically, the factors in 4(a)(l) of the ESA are being or have been addressed: (A) The present or threatened destruction, modification or curtailment of a species' habitat or range; (B) overutilization for commercial, recreational or educational purposes; (C) disease or predation; (D) the inadequacy of existing regulatory mechanisms; and (E) other natural or manmade factors.

The population will be considered for delisting if all of the following can be met: (1) Given current and projected threats and environmental conditions, the total North Pacific right whale population in each ocean basin in which it occurs satisfies the risk analysis standard for unlisted status (has less than a 10 percent probability of becoming endangered in 20 years). Any factors or circumstances that are thought to substantially contribute to a real risk of extinction that cannot be incorporated into a Population Viability Analysis will be carefully considered before delisting takes place; and (2) none of the known threats to North Pacific right whales are known to limit the continued growth of populations. Specifically, the factors in 4(a)(l) of the ESA are being or have been addressed.

The time and cost to recovery is not predictable with the current information and global listing of North Pacific right whales. The difficulty in gathering data on North Pacific right whales and uncertainty about the success of passive acoustic monitoring in fulfilling data needs make it impossible to give a timeframe to recovery. While we are comfortable estimating costs for 50 years of plan implementation ($19.683 million), any projections beyond this date are likely to be too imprecise to predict. The anticipated date for removal from the endangered species list also cannot be determined because of the uncertainty in the success of recovery plan actions for North Pacific right whales. The effectiveness of many management activities is not known on a global level. Currently it is impossible to predict when such measures will bring the species to a point at which the protections provided by the ESA are no longer warranted, or even determine whether the species has recovered enough to be downlisted or delisted. In the future, as more information is obtained it should be possible to make more informative projections about the time to recovery, and its expense.

NMFS will consider all substantive comments and information presented during the public comment period in the course of finalizing this Plan. NMFS concludes that the Draft Recovery Plan meets the requirements of the ESA.

Authority: 16 U.S.C. 1531 et seq.

Dated: January 17, 2013.
Angela Somma,
Chief, Endangered Species Division, Office of Protected Resources, National Marine Fisheries Service.

[FR Doc. 2013-01249 Filed 1-22-13; 8:45 am]

BILLING CODE 3510-22-P